POSTAL REGULATORY COMMISSION

39 CFR Part 3050

[Docket No. RM2017-13; Order No. 4141]

Periodic Reporting

AGENCY: Postal Regulatory Commission.

ACTION: Notice of proposed rulemaking.

SUMMARY: The Commission is noticing a recent filing requesting that the Commission initiate an informal rulemaking proceeding to consider changes to an analytical method for use in periodic reporting (Proposal Nine). This document informs the public of the filing, invites public comment, and takes other administrative steps.

DATES: Comments are due: November 21, 2017.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Proposal Nine

III. Notice and Comment

IV. Ordering Paragraphs

I. Introduction

On September 29, 2017, the Postal Service filed a petition pursuant to 39 CFR 3050.11 requesting that the Commission initiate a rulemaking proceeding to consider changes to analytical principles relating to periodic reports and compliance determinations.¹ The Petition identifies the proposed analytical method changes filed in this docket as Proposal Nine.

¹ Petition of the United States Postal Service for the Initiation of a Proceeding to Consider Proposed Changes in Analytical Principles (Proposal Nine), September 29, 2017 (Petition).

II. Proposal Nine

Background. The Postal Service proposes to change the current City Carrier Cost System (CCCS) methodology for estimating Delivery Point Sequence (DPS) volume proportions. Petition, Proposal Nine at 1. Presently, the Postal Service collects similar mail characteristic data, such as class and product data, for two different systems: CCCS and Origin-Destination Information System—Revenue, Pieces, and Weight (ODIS-RPW). Id. at 1-2. CCCS data are used primarily to distribute costs to products delivered by city letter routes. ODIS-RPW data are used to estimate volume and revenue.

Currently, the Postal Service collects CCCS mail characteristics data manually. See id. at 3. In contrast, the Postal Service collects ODIS-RPW mail characteristics data from digitally captured images of letter and card shaped mail.² The Postal Service states that the ODIS-RPW digital sampling method includes approximately 93 percent of CCCS sampled city letter routes. Petition, Proposal Nine at 2.

² Id. at 2; see Docket No. RM2015-11, Order No. 2739, Order on Analytical Principles Used in Periodic Reporting (Proposal Three), September 30, 2015.

Proposal. The Postal Service proposes a methodology change to CCCS data collection procedures for Delivery Point Sequenced (DPS) mail. Id. at 1. The Postal Service seeks to use the ODIS-RPW digital data to enhance CCCS data for DPS mail destined for delivery by city letter routes. Id. at 2. The Postal Service explains that the proposal would eliminate the need to manually sample 93 percent of DPS mail for CCCS data collection purposes. Id.; see id. at 3. The Postal Service states that it would continue to manually sample mailpieces destined for city letter routes not included in ODIS-RPW's digital data collection, approximately seven percent of city letter routes. Id. at 3.

Rationale and impact. The Postal Service states that the proposal would enhance the CCCS estimation of delivered DPS volumes. Id. The Postal Service explains that the “automated, systematic method of collecting images of DPS letters and cards” would reduce the risk of undetected sampling errors. Id. Additionally, the Postal Service notes that data collectors and their supervisors are able to review and analyze the ODIS-RPW data because the system retains the data for 30 days. Id. at 3-4. The Postal Service also explains that the proposal would increase the number of DPS sampled mailpieces by approximately 400 percent and the number of CCCS tests by approximately 300 percent. Id. at 4.

The Postal Service discusses the likely effects of the proposed methodology change on product volume distribution and unit costs. Id. at 4-5. Based on these estimates, the Postal Service indicates minor differences in product volume distribution between the current and proposed CCCS methodologies. Id. at 4. These estimates also indicate that using ODIS-RPW digital data for DPS mail destined for city letter routes would result in very small estimated changes in unit costs or would leave unit costs unaffected. Id. at 4-5.

III. Notice and Comment

The Commission establishes Docket No. RM2017-13 for consideration of matters raised by the Petition. More information on the Petition may be accessed via the Commission's Web site at http://www.prc.gov. Interested persons may submit comments on the Petition and Proposal Nine no later than November 21, 2017. Pursuant to 39 U.S.C. 505, Lyudmila Y. Bzhilyanskaya is designated as an officer of the Commission (Public Representative) to represent the interests of the general public in this proceeding.

IV. Ordering Paragraphs

It is ordered:

1. The Commission establishes Docket No. RM2017-13 for consideration of the matters raised by the Petition of the United States Postal Service for the Initiation of a Proceeding to Consider Proposed Changes in Analytical Principles (Proposal Nine), filed September 29, 2017.

2. Comments by interested persons in this proceeding are due no later than November 21, 2017.

3. Pursuant to 39 U.S.C. 505, the Commission appoints Lyudmila Y. Bzhilyanskaya to serve as an officer of the Commission (Public Representative) to represent the interests of the general public in this docket.

4. The Secretary shall arrange for publication of this order in the Federal Register.

By the Commission.
Stacy L. Ruble,
Secretary.

[FR Doc. 2017-21691 Filed 10-6-17; 8:45 am]

BILLING CODE 7710-FW-P